DEPARTMENT OF STATE

[Public Notice 6113]

Advisory Committee on International Postal and Delivery Services

AGENCY: Department of State.

ACTION: Notice; FACA Committee meeting announcement.

Summary: As required by the Federal Advisory Committee Act, Public Law 92-463, the Department of State gives notice of the inaugural meeting of the Advisory Committee on International Postal and Delivery Services. This Committee has been formed in fulfillment of the provisions of the 2006 Postal Accountability and Enhancement Act (Pub. L. 109-435) and in accordance with the Federal Advisory Committee Act.

Public input: Any member of the public interested in providing public input to the meeting should contact Mr. Chris Wood, whose contact information is listed under FOR FURTHER INFORMATION CONTACT section of this notice. Each individual providing oral input is requested to limit his or her comments to five minutes. Requests to be added to the speaker list must be received in writing (letter, e-mail or fax) prior to the close of business on March 18, 2008; written comments from members of the public for distribution at this meeting must reach Mr. Wood by letter, e-mail or fax by this same date.

Agenda of the Meeting

The agenda will include the following subjects:

—Preparations for U.S. participation in the UPU Congress to take place in Geneva from July 23 to August 12, 2008.

—Extra-territorial offices of exchange (ETOEs).

—Performance measurement.

—Customs clearance.

Date: March 25, 2008 from 2 p.m. to about 5 p.m. (open to the public).

Location: Room 1482, George C. Marshall Conference Center, Department of State, 2201 C Street, NW., Washington, DC 20520. Individuals attending the Committee meeting should enter the State Department at the 21st Street entrance, where photo identification will be required to be displayed to Diplomatic Security before entering the building. One of the following forms of valid photo identification will be required for admission to the State Department building: U.S. driver's license, U.S. Government identification card, or any valid passport.

For further information, please contact Christopher Wood, Office of Technical Specialized Agencies (IO/T), Bureau of International Organization Affairs, U.S. Department of State, at (202) 647-1044, woodcs@state.gov.

Dated: February 21, 2008.
Dennis M. Delehanty,
Designated Federal Officer, Advisory Committee on International Postal and Delivery Services.
Dated: February 21, 2008.
Dennis M. Delehanty,
Foreign Affairs Officer, Department of State.

[FR Doc. E8-3939 Filed 2-28-08; 8:45 am]

BILLING CODE 4710-19-P